DEPARTMENT OF HEALTH AND HUMAN SERVICES

Advisory Commission on Childhood Vaccines; Notice of Meeting

AGENCY: Health Resources and Service Administration (HRSA), Department of Health and Human Services (HHS).

ACTION: Notice of meeting.

SUMMARY: The Advisory Commission on Childhood Vaccines (ACCV) has scheduled a public meeting. Information about ACCV and the agenda for this meeting can be found on the ACCV website at http://www.hrsa.gov/advisorycommittees/childhoodvaccines/index.html.

DATES: September 6, 2018, from 11:00 a.m. ET to 3:00 p.m. ET.

ADDRESSES: This meeting will be held in-person, by teleconference, and via webinar. The address for the meeting is 5600 Fishers Lane, Rockville, Maryland, 20857 in conference room 5W07. The public can join the meeting by:

1. (In Person) Persons interested in attending the meeting in person are encouraged to submit a written notification to: Annie Herzog, Division of Injury Compensation Programs (DICP), Healthcare Systems Bureau (HSB), HRSA, Room 08N146B, 5600 Fishers Lane, Rockville, Maryland 20857 or email: aherzog@hrsa.gov. Since this meeting occurs in a Federal government building, attendees must go through a security check to enter the building. Non-U.S. Citizen attendees must notify HRSA of their planned attendance at least 10 business days prior to the meeting in order to facilitate their entry into the building. All attendees are required to present government-issued identification prior to entry.

2. (Audio Portion) Calling the conference phone number 800-988-0218 and providing the following information:

Leader Name: Dr. Narayan Nair

Password: 9302948

3. (Visual Portion) Connecting to the ACCV Adobe Connect Meeting using the following URL: https://hrsa.connectsolutions.com/accv/. Participants should call and connect 15 minutes prior to the meeting in order for logistics to be set up. If you have never attended an Adobe Connect meeting, please test your connection using the following URL: https://hrsa.connectsolutions.com/common/help/en/support/meeting_test.htm and get a quick overview by following URL: http://www.adobe.com/go/connectpro_overview.

FOR FURTHER INFORMATION CONTACT: Annie Herzog, Program Analyst at DICP, HRSA, 5600 Fishers Lane, 08N146B, Rockville, Maryland 20857; 301-443-6593; or aherzog@hrsa.gov. Meeting times and locations could change. For the latest information regarding the meeting, including start time and location, please check the ACCV website: http://www.hrsa.gov/advisorycommittees/childhoodvaccines/index.html.

SUPPLEMENTARY INFORMATION: The ACCV was established by section 2119 of the Public Health Service Act (the Act) (42 U.S.C. 300aa-19), as enacted by Public Law (Pub. L.) 99-660, and as subsequently amended, and advises the Secretary of Health and Human Services (the Secretary) on issues related to implementation of the National Vaccine Injury Compensation Program (VICP).

During the September 6, 2018, meeting, the ACCV will discuss updates from DICP, Department of Justice (DOJ), National Vaccine Program Office (NVPO), Immunization Safety Office (Centers for Disease Control and Prevention), National Institute of Allergy and Infectious Diseases (National Institutes of Health) and Center for Biologics, Evaluation and Research (Food and Drug Administration). Agenda items are subject to change as priorities dictate.

Members of the public will have the opportunity to provide comments. Oral comments will be honored in the order they are requested and may be limited as time allows. Requests to make oral comments or provide written statements to the ACCV should be sent to Annie Herzog, using the contact information above by Thursday, August 30, 2018.

Individuals who plan to attend and need special assistance or another reasonable accommodation should notify Annie Herzog at the address and phone number listed above at least 10 days prior to the meeting.

Amy P. McNulty,
Acting Director, Division of the Executive Secretariat.

[FR Doc. 2018-18106 Filed 8-21-18; 8:45 am]

BILLING CODE 4165-15-P